DEPARTMENT OF ENERGY

Federal Energy Regulatory Commission

[Docket Nos. CP17-495-000; CP17-494-000]

Notice of Anticipated Schedule of Final Order for the Jordan Cove Project: Jordan Cove Energy Project, LP; Pacific Connector Gas Pipeline, LP

On September 21, 2017, Jordan Cove Energy Project, L.P. filed an application in Docket No. CP17-495-000, pursuant to section 3 of the Natural Gas Act (NGA) and Part 153 of the Commission's regulations, for authorization to site, construct and operate a liquefied natural gas export terminal and associated facilities on the bay side of the North Spit of Coos Bay in unincorporated Coos County, Oregon. On the same day, Pacific Connector Gas Pipeline, LP filed an application in Docket No. CP17-494-000 requesting a Certificate of Public Convenience and Necessity, pursuant to section 7(c) of the NGA and Parts 157 and 284 of the Commission's regulations, to construct, operate, and maintain an approximately 220-mile-long natural gas pipeline to be located in Klamath, Jackson, Douglas, and Coos Counties, Oregon. The combined proposed projects, known as the Jordan Cove Project (Project), would liquefy and export about 7.8 million metric tons of natural gas per annum.

In accordance with Title 41 of the Fixing America's Surface Transportation Act, enacted on December 4, 2015, agencies are to publish completion dates for all federal environmental reviews and authorizations. This notice identifies the Commission's anticipated schedule for issuance of the final order for the Project, which is based on the anticipated date of issuance of the final Environmental Impact Statement. Accordingly, we currently anticipate issuing a final order for the Project no later than:

Issuance of Final Order—November 29, 2019

If a schedule change becomes necessary for the final order, an additional notice will be provided so that interested parties and government agencies are kept informed of the Project's progress.

Dated: August 31, 2018.
Nathaniel J. Davis, Sr.,
Deputy Secretary.

[FR Doc. 2018-19404 Filed 9-6-18; 8:45 am]

BILLING CODE 6717-01-P